DEPARTMENT OF AGRICULTURE

Agricultural Marketing Service

7 CFR Parts 1124 and 1135

[Docket No. AO-368-A30, AO-380-A18; DA-01-08]

Milk in the Pacific Northwest and Western Marketing Areas; Correction

AGENCY: Agricultural Marketing Service, USDA.

ACTION: Proposed rule; correction.

SUMMARY: The Agricultural Marketing Service is correcting the proposed rule that appeared in the Federal Register of March 4, 2002, (67 FR 9622), which gave notice of a public hearing being held to consider proposals that would amend certain pooling and related provisions of the Pacific Northwest and Western Federal milk marketing orders. The document was published with an inadvertent error regarding the date of the public hearing. This docket corrects the error to show the public hearing will begin on April 16, 2002.

DATE: March 4, 2002.

FOR FURTHER INFORMATION CONTACT: Gino Tosi, Marketing Specialist, USDA/AMS/Dairy Programs, Order Formulation Branch, Room 2968, 1400 Independence Avenue, SW STOP 0231, Washington, DC 20250-0231, (202) 690-1366, e-mail address: gino.tosi@usda.gov.

SUPPLEMENTARY INFORMATION: In the proposed rule beginning on page 9622 of the Federal Register for Monday, March 4, 2002, the hearing date in the second column on page 9622 is corrected in both the DATES and SUPPLEMENTARY INFORMATION sections to read as follows:

DATES: The hearing will convene at 8:30 a.m. on Tuesday, April 16, 2002.

SUPPLEMENTARY INFORMATION: This administrative action is governed by the provisions of Sections 556 and 557 of Title 5 of the United States Code and, therefore, is excluded from the requirements of Executive Order 12866.

Notice is hereby given of a public hearing to be held at the Hilton Hotel, Salt Lake City Airport, 5151 Wiley Post Way, Salt Lake City, UT 84116-2891, (801) 539-1515 (voice), (801) 539-1113 (fax), beginning at 8:30 a.m., on Tuesday, April 16, 2002, with respect to proposed amendments to the tentative marketing agreements and to the orders regulating the handling of milk in the Pacific Northwest and Western marketing areas.

Dated: March 14, 2002.
A. J. Yates,
Administrator, Agricultural Marketing Service.

[FR Doc. 02-6657 Filed 3-15-02; 11:53 am]

BILLING CODE 3410-08-P